FEDERAL TRADE COMMISSION

16 CFR Part 423

Public Roundtable Analyzing Proposed Changes to the Trade Regulation Rule on Care Labeling of Textile Wearing Apparel and Certain Piece Goods as Amended

AGENCY: Federal Trade Commission.

ACTION: Announcement of public roundtable and request for public comment.

SUMMARY: The Federal Trade Commission (“FTC” or “Commission”) is holding a public roundtable relating to its September 20, 2012 Notice of Proposed Rulemaking (“NPRM”) announcing proposed changes to the Care Labeling Rule. The roundtable will explore issues relating to professional wetcleaning, care symbols, the Rule's reasonable basis requirements, and other issues raised in comments received in response to the NPRM.

DATES: The public roundtable will be held on October 1, 2013, from 9:15 a.m. until 3:45 p.m. at the FTC's Satellite Building Conference Center, located at 601 New Jersey Avenue NW., Washington, DC. Requests to participate as a panelist must be received by September 3, 2013. Any written comments related to the agenda topics, the issues discussed by the panelists at the roundtable, or the issues raised in comments received in response to the NPRM must be received by October 15, 2013.

ADDRESSES: Interested parties may file a comment or a request to participate as a panelist electronically or on paper by following the instructions in the Filing Comments and Requests to Participate as a Panelist part of the SUPPLEMENTARY INFORMATION section below. Write “Care Labeling Rule, 16 CFR Part 423, Comment, Project No. R511915” on your comment and “Care Labeling Rule, 16 CFR Part 423, Request to Participate, Project No. R511915” on your request to participate as a panelist. File your comment online at https://ftcpublic.commentworks.com/ftc/carelabelingroundtable by following the instructions on the web-based form. File your request to participate as a panelist by email to: carelabelingroundtable@ftc.gov. If you prefer to file your comment or request on paper, mail or deliver it to the following address: Federal Trade Commission, Office of the Secretary, Room H-113 (Annex X), 600 Pennsylvania Avenue NW., Washington, DC 20580.

FOR FURTHER INFORMATION CONTACT: Robert M. Frisby, Attorney, 202-326-2098, or Amanda B. Kostner, Attorney, 202-326-2880, Federal Trade Commission, Division of Enforcement, Bureau of Consumer Protection, 600 Pennsylvania Avenue NW., Washington, DC 20580.

SUPPLEMENTARY INFORMATION:

I. Introduction

The Rule prohibits manufacturers and importers from selling textile wearing apparel and certain piece goods without attaching labels stating the care needed for their ordinary use.¹ Manufacturers and importers must possess, prior to sale, a reasonable basis for these care instructions ² and can use approved care symbols to disclose those instructions.³

¹ 16 CFR 423.5 and 423.6(a) and (b).

² 16 CFR 423.6(c).

³ The Rule provides that the symbol system developed by ASTM International, formerly the American Society for Testing and Materials, and designated as ASTM Standard D5489-96c “Guide to Care Symbols for Care Instructions on Consumer Textile Products” may be used on care labels or care instructions in lieu of terms so long as the symbols fulfill the requirements of Part 423. 16 CFR 423.8(g).

As part of its ongoing regulatory review program, the Commission published an Advance Notice of Proposed Rulemaking (“ANPR”) in July 2011 seeking comment on: The economic impact of, and the continuing need for, the Rule; the benefits of the Rule to consumers; and the burdens the Rule places on businesses.⁴ The ANPR also sought comment on whether and how the Rule should address professional wetcleaning and updated industry standards regarding the use of care symbols. The Commission received 120 comments in response.⁵

⁴ 76 FR 41148 (July 13, 2011).

⁵ The comments are posted at http://www.ftc.gov/os/comments/carelabelinganpr/index.shtm.

After reviewing these comments, the Commission published a Notice of Proposed Rulemaking (“NPRM”) proposing four amendments.⁶ The Commission proposed to: (1) Permit manufacturers and importers to provide a care instruction for professional wetcleaning on labels if the garment can be professionally wetcleaned; (2) permit manufacturers and importers to use the symbol system set forth in either ASTM Standard D5489-07, “Standard Guide for Care Symbols for Care Instructions on Textile Products,” or ISO 3758:2005(E), “Textiles—Care labelling code using symbols”; (3) clarify what constitutes a reasonable basis for care instructions; and (4) update the definition of “dryclean” to reflect current practices and technology. The Commission received 87 comments in response,⁷ including one requesting an opportunity to present views orally at a workshop or hearing ⁸ and several urging the Commission to hold a hearing or workshop ⁹ or requesting more time to file comments on the proposed amendments.¹⁰ Most of the comments favoring a workshop or hearing or more time to comment also urged the Commission to amend the Rule to require a wetcleaning instruction rather than merely permit one if the garment can be wetcleaned. Accordingly, the Commission will conduct a roundtable ¹¹ to provide interested parties with an opportunity to present their views orally pursuant to the procedures set forth in the NPRM.¹²

⁶ 77 FR 58338 (September 20, 2012).

⁷ The comments are posted at http://www.ftc.gov/os/comments/carelabelingnprm/index.shtm. The Commission has assigned each comment a number appearing after the name of the commenter and the date of submission. This notice cites comments using the last name of the individual submitter or the name of the organization, followed by the number assigned by the Commission.

⁸ Sinsheimer, UCLA Sustainable Technology & Policy Program (87).

⁹ Huie (80); Miele (72 and 76); Professional Wet Cleaners Association (59); Sung (74); and Toxic Use Reduction Institute (54).

¹⁰ European Union (67); Huie (80); and Professional Wet Cleaners Association (59).

¹¹ The NPRM noted the possibility of holding a workshop; however, the Commission has decided to describe this event as a roundtable to encourage discussion and interaction between the panelists.

¹² 77 FR at 58338-339.

II. Issues for Discussion at the Roundtable

The roundtable will focus on the proposed amendment permitting a wetcleaning instruction and comments urging the Commission to require a wetcleaning instruction. The wetcleaning discussion also will address: (1) The cost of substantiating wetcleaning instructions; (2) the availability of wetcleaning services; (3) consumer awareness of wetcleaning; and (4) the content of labels providing a wetcleaning instruction (e.g., instructing “professionally wetclean” versus “wetclean”).

The roundtable also will explore issues relating to the use of care symbols and the Commission's proposal to clarify the Rule's reasonable basis requirements. These discussions will address: (1) The differences between ASTM and ISO symbols and between the 2005 and 2012 ISO symbols; (2) whether to require that labels identify ISO symbols if used to comply with the Rule; (3) the change in the meaning of the circle P symbol in the ASTM system; (4) the absence of ASTM and ISO symbols for solvents other than perchloroethylene (“perc”) and petroleum; (5) consumer understanding of symbols; and (6) how to clarify the Rule's reasonable basis requirements.¹³ In addition, the roundtable will provide participants with an opportunity to discuss other issues raised by comments. A more detailed agenda will be published at a later date, in advance of the scheduled roundtable. In the interim, the Commission is particularly interested in receiving relevant consumer perception evidence.

¹³ See, e.g., GreenEarth Cleaning (41).

III. Public Participation Information

A. Registration Information

The roundtable is open to the public, and there is no fee for attendance. For admittance to the Conference Center, all attendees must show valid government-issued photo identification, such as a driver's license. Pre-registration is not necessary to attend, but is encouraged so that staff may better plan this event. To pre-register, please email your name and affiliation to carelabelingroundtable@ftc.gov. When you pre-register, the FTC collects your name, affiliation, and email address. We will use this information to estimate how many people will attend and better understand the likely audience for the roundtable, and will dispose of it following the roundtable. We may use your email address to contact you with information about the roundtable. The FTC Act and other laws the Commission administers permit the collection of this contact information to consider and use for the above purposes. Under the Freedom of Information Act or other laws, we may be required to disclose the information you provide to outside organizations. For additional information, including routine uses permitted by the Privacy Act, see the Commission's privacy policy at http://www.ftc.gov/privacy.shtm.

B. Requests To Participate as a Panelist

The roundtable will consist of roundtable discussions by panelists selected by the FTC staff. Other attendees will have an opportunity to comment and ask questions. The Commission will place a transcript of the proceeding on the public record. Requests to participate as a panelist must be received on or before September 3, 2013, as explained in Section IV below. Persons selected as panelists will be notified on or before September 17, 2013.

C. Electronic and Paper Comments

The submission of comments is not required for participation in the roundtable. If a person wishes to submit paper or electronic comments about the topics to be discussed at the roundtable or issues raised in the comments filed in response to the NPRM, such comments should be filed as prescribed in Section IV, and must be received on or before October 15, 2013.

IV. Filing Comments and Requests To Participate as a Panelist

You can file a comment or request to participate in the roundtable as a panelist online or on paper. For the Commission to consider your comment, we must receive it on or before October 15, 2013. Write “Care Labeling Rule, 16 CFR Part 423, Comment, Project No. R511915” on your comment and “Care Labeling Rule, 16 CFR Part 423, Request to Participate, Project No. R511915” on your request to participate. Your comment—including your name and your state B will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment does not include any sensitive personal information, such as anyone's Social Security number, date of birth, driver's license number or other state identification number or foreign country equivalent, passport number, financial account number, or credit or debit card number. You are also solely responsible for making sure that your comment does not include any sensitive health information, such as medical records or other individually identifiable health information. In addition, do not include any “[t]rade secret or any commercial or financial information which is obtained from any person and which is privileged or confidential,” as provided in Section 6(f) of the FTC Act, 15 U.S.C. 46(f), and FTC Rule 4.10(a)(2), 16 CFR 4.10(a)(2). In particular, do not include competitively sensitive information such as costs, sales statistics, inventories, formulas, patterns, devices, manufacturing processes, or customer names.

If you want the Commission to give your comment confidential treatment, you must file it in paper form, with a request for confidential treatment, and you have to follow the procedure explained in FTC Rule 4.9(c), 16 CFR 4.9(c).¹⁴ Your comment will be kept confidential only if the FTC General Counsel, in his or her sole discretion, grants your request in accordance with the law and the public interest.

¹⁴ In particular, the written request for confidential treatment that accompanies the comment must include the factual and legal basis for the request, and must identify the specific portions of the comment to be withheld from the public record. See FTC Rule 4.9(c), 16 CFR 4.9(c).

Postal mail addressed to the Commission is subject to delay due to heightened security screening. As a result, we encourage you to submit your comments online. To make sure that the Commission considers your online comment, you must file it at https://ftcpublic.commentworks.com/ftc/carelabelingroundtable, by following the instruction on the web-based form. If this Notice appears at http://www.regulations.gov/#!home, you also may file a comment through that Web site.

Requests to participate as a panelist at the roundtable should be submitted electronically to carelabelingroundtable@ftc.gov, or, if mailed, should be submitted in the manner detailed below. Parties are asked to include in their requests a brief statement setting forth their expertise in or knowledge of the issues on which the roundtable will focus as well as their contact information, including a phone number, facsimile number, and email address (if available), to enable the FTC to notify them if they are selected.

If you file your comment or request on paper, write “Care Labeling Rule, 16 CFR Part 423, Comment, Project No. R511915” on your comment and on the envelope and “Care Labeling Rule, 16 CFR Part 423, Request to Participate, Project No. R511915,” on your request and on the envelope, and mail or deliver it to the following address: Federal Trade Commission, Office of the Secretary, Room H-113 (Annex X), 600 Pennsylvania Avenue NW., Washington, DC 20580. If possible, submit your paper comment or request to the Commission by courier or overnight service.

Visit the Commission Web site at http://www.ftc.gov to read this Notice and the news release describing it. The FTC Act and other laws that the Commission administers permit the collection of public comments to consider and use in this proceeding as appropriate. The Commission will consider all timely and responsive public comments that it receives on or before October 15, 2013. The Commission will consider all timely requests to participate as a panelist in the roundtable that it receives by September 3, 2013. You can find more information, including routine uses permitted by the Privacy Act, in the Commission's privacy policy, at http://www.ftc.gov/ftc/privacy.htm. The Commission invites members of the public to comment on any issues or concerns they believe are relevant or appropriate to the Commission's consideration of proposed amendments to the Care Labeling Rule or the roundtable agenda. The Commission requests that comments provide factual data, such as consumer perception evidence, upon which the commenters' proposals or views are based.

V. Communications to Commissioners and Commissioner Advisors by Outside Parties

Pursuant to Commission Rule 1.18(c)(1), the Commission has determined that communications with respect to the merits of this proceeding from any outside party to any Commissioner or Commissioner advisor shall be subject to the following treatment. Written communications and summaries or transcripts of oral communications shall be placed on the rulemaking record if the communication is received before the end of the staff report comment period. They shall be placed on the public record if the communication is received later. Unless the outside party making an oral communication is a member of Congress, such communications are permitted only if advance notice is published in the Weekly Calendar and Notice of “Sunshine” Meetings.¹⁵

¹⁵ See 15 U.S.C. 57a(i)(2)(A); 16 CFR 1.18(c).

By direction of the Commission.
Donald S. Clark,
Secretary.

[FR Doc. 2013-18181 Filed 7-29-13; 8:45 am]

BILLING CODE 6750-01-P